DEPARTMENT OF HEALTH AND HUMAN SERVICES

Office of the Assistant Secretary for Planning and Evaluation: Notice Inviting Abstracts for Policy Research and Studies on Welfare Reform Outcomes for Fiscal Year 2001

AGENCY: Office of the Assistant Secretary for Planning and Evaluation, Department of Health and Human Services.

ACTION: Announcement of the request for abstracts and the availability of funds for welfare reform policy research and studies.

SUMMARY: The Office of the Assistant Secretary for Planning and Evaluation (ASPE) invites abstracts for policy research and studies related to welfare reform.

Closing Date: The closing date for submitting abstracts under this announcement is April 6, 2001. Only abstracts, not full proposals, will be accepted under this announcement. Please email Audrey Mirsky-Ashby at amirsky@osaspe.dhhs.gov by March 27, 2001 to inform the government of your intent to submit an abstract. Please include the proposed title of the research project and please put “intent to submit” in the subject line of your email. Providing notice of intent to submit is not a requirement for submitting an abstract. However, a notice of intent to submit will help the federal government in the planning for the review process. Please email Evvie Becker at ebecker@osaspe.dhhs.gov April 18, 2001 to confirm receipt of any abstracts submitted. Please include the researcher's name, the name of the organization submitting the abstract, the amount of federal funds requested, and the title of the research project. Please put “confirm receipt” in the subject line of your email.

Mailing Address: Abstracts should be submitted to: Adrienne Little, Grants Officer, Office of the Assistant Secretary for Planning and Evaluation, Department of Health and Human Services, 200 Independence Avenue, SW., Room 405F, Hubert H. Humphrey Building, Washington, DC 20201, Telephone: (202) 690-8794. Administrative questions will be accepted and responded to up to ten working days prior to closing date of receipt of abstracts.

The printed Federal Register notice is the only official program announcement. Any corrections to this announcement will be published in the Federal Register as well as published on the ASPE World Wide Web Pages. The web site is http://aspe.hhs.gov/funding.htm. Although reasonable efforts are taken to assure that the files on the ASPE World Wide Web Page containing electronic copies of this Program Announcement are accurate and complete, they are provided for information only. The applicant bears sole responsibility to assure that the copy downloaded and/or printed from any other source is accurate and complete.

FOR FURTHER INFORMATION CONTACT: Administrative questions should be directed to the Grants Officer at the address or phone number listed above. Technical questions should be directed to Audrey Mirsky-Ashby, DHHS, ASPE, telephone, 202-401-6640 or e-mail, amirsky@osaspe.dhhs.gov. Technical questions may also be directed in writing to Evvie Becker, DHHS, ASPE, at ebecker@osaspe.dhhs.gov. In addition, written technical questions may be faxed to Audrey Mirsky-Ashby or Evvie Becker at 202-690-6562 or may be addressed to either Audrey Mirsky-Ashby or Evvie Becker at the following address, Office of the Assistant Secretary for Planning and Evaluation, Department of Health and Human Services, 200 Independence Avenue, SW., Room 404E, Hubert H. Humphrey Building, Washington, DC 20201. Please call to confirm receipt. Technical questions will be accepted and responded to up to ten working days prior to the closing date of receipt of abstracts.

Part I. Supplementary Information

Legislative Authority

This announcement is authorized by Section 1110 of the Social Security Act (42 U.S.C. 1310) and awards will be made from funds appropriated under the Departments of Labor, Health and Human Services, and Education, and Related Agencies Appropriations Act, 2001, as enacted by section 1000(a)(4) of the Consolidated Appropriations Act, 2001 (Public Law 106-554).

Eligible Applicants

Pursuant to section 1110 of the Social Security Act, any public organization, including state and local governments, and private nonprofit organizations, including universities and other institutions of higher education, may apply. Applications may also be submitted by private for-profit organizations, although no funds may be paid as profit to grantees or subgrantees.

Available Funds

ASPE is engaging in a two-part process. The first part of the process will be the submission of six page research abstracts. After the abstracts are reviewed by an independent review panel, a subset of the applicants who submitted abstracts will be invited by ASPE to submit full applications. These will be reviewed competitively. Financial awards will be made only in the second part of the process; no awards will be made based on abstracts submitted. An invitation to submit an application is not a guarantee of funding. The following information on fund availability is provided for planning purposes for applicants.

Approximately $1,000,000 is expected to be available from ASPE funds appropriated for fiscal year 2001. We estimate that this level of funding will support between 8 and 12 ASPE awards with total budgets ranging from $75,000 to $150,000 for most of these short-term policy analyses (to be completed within about 12 months of award). These figures are provided as guidance but do not constitute minimum or maximum limits. If additional funding becomes available in fiscal years 2001 or 2002, a greater number of projects may be funded.

No federal funds received as a result of this announcement can be used to purchase computer equipment and no funds may be paid as profit to grantees or subgrantees, i.e., any amount in excess of allowable direct and indirect costs of the recipient (45 CFR 74.81). Our intent is to sponsor research and analytic work and not to fund the provision of services. Grant funds awarded in the full-proposal phase of this initiative may not be used to pay for programs or services.

Grantees must provide at least 5 percent of the total approved cost of the project. The total approved cost of the project is the sum of the Federal share and the non-Federal share. The non-Federal share may be met by cash or in-kind contributions, although applicants are encouraged to meet their match requirements through cash contributions. For example, a researcher with a project with a total budget (both direct and indirect costs) of $150,000 may request up to $142,500 in federal funds under the announcement.

If a proposed project activity has approved funding support from other funding sources, the amount, duration, purpose, and source of the funds should be indicated in materials submitted under this announcement. If completion of the proposed project activity is contingent upon approval of funding from other sources, the relationship between the funds being sought elsewhere and from ASPE should be discussed in the budget information submitted as a part of the abstract. In both cases, the contribution that ASPE funds will make to the project should be clearly presented.

Background

“The Personal Responsibility and Work Opportunity Reconciliation Act of 1996” (PRWORA), a comprehensive bipartisan welfare reform plan that dramatically changed the nation's welfare system into one that requires work in exchange for time-limited assistance, was signed into law in August 1996. The Temporary Assistance for Needy Families (TANF) program was created to replace the Aid to Families with Dependent Children (AFDC) and Job Opportunities and Basic Skills Training (JOBS) programs, ending the federal entitlement to assistance and providing funds to states to operate time-limited, work-oriented welfare programs. PRWORA also effected changes in child support enforcement, child care, food stamps, disability benefits for children, and immigrant eligibility for federal, state, and local benefits.

The purpose of TANF, as articulated in the law, is to increase the flexibility of states in operating a program that is designed to (1) provide assistance to needy families so that children may be cared for in their own homes or in the homes of relatives; (2) end the dependence of needy parents on government benefits by promoting job preparation, work, and marriage; (3) prevent and reduce the incidence of out-of-wedlock pregnancies and establish annual numerical goals for preventing and reducing the incidence of these pregnancies; and (4) encourage the formation and maintenance of two-parent families.

Given the sweeping changes in the welfare system and the dramatic caseload declines since PRWORA was enacted, for the past three years the Department has received policy research funds targeted by Congressional appropriators to support studies of the outcomes of welfare reform. Additional funds were also included in the FY 2001 appropriation. The Department has used these funds to help create an integrated picture of the low-income population by complementing other public and private efforts to assess the outcome of welfare reform, with a particular focus on low-income families with children. Projects funded in fiscal years 1998, 1999, and 2000 include studies that measure outcomes for a broad population of low-income families, examine diversion practices, and measure family hardship and well-being, including the utilization of other support programs. Projects are in place to assess the outcomes of welfare reform on current, former and potential welfare recipients and other special populations affected by TANF policies. ASPE is also studying the workings of the low-wage labor markets, where current and former welfare recipients are most likely to be employed. A large portion of the welfare outcome funds have been spent on competitive grants to states and large counties to study families leaving welfare, as well as those who have been diverted (formally or informally) from welfare receipt. These projects have provided, and continue to provide, valuable data on welfare outcomes from a variety of perspectives. New data are becoming available to analyze the issues above and there is still more we need to learn about how low-income, disadvantaged children and families are faring under PRWORA. We are interested in the areas of economic outcomes for poor families (e.g., family hardship and well-being); child outcomes (including the children of teen parents); youth outcomes (including teen parents and teen children); the formation of families (e.g., marriage, fatherhood, child support, medical child support); and special populations (e.g., cases that involve domestic violence, mental health or substance abuse problems, homeless TANF families, incarcerated parents, cultural or language barriers, learning disabilities, low educational skills, chronic health problems).

Part II. Purpose

ASPE is again interested in soliciting ideas for studies on various aspects of welfare reform outcomes from the research community. ASPE is announcing this funding opportunity as part of our strategy to encourage field-initiated research on the outcomes of welfare reform and the impacts of policy changes on low-income children and families. These studies should focus on outcomes for the broad population of welfare recipients, former recipients, potential recipients, and other special populations affected by TANF policies. We will support short-term research and data analyses designed to be completed within 12 months. This funding is intended for research and analytical work, not for the provision of services. Thus, grant funds awarded under this initiative may not be used to pay for programs or services.

ASPE is interested in analyses of the economic conditions, health and well-being, socio-demographic characteristics, and social service needs of low-income individuals, families and children affected by TANF policies. We want to cover a wide spectrum of policy interests related to welfare reform outcomes, focusing on poverty; working poor families; supports for low-income populations; special populations, including those with barriers to full participation in the work force or those who were made ineligible for federal TANF assistance (such as recent legal immigrants); and programs and policies related to low-income children and youth. Data from a variety of sources can be used, including state and county administrative records or survey data or data from a research project already underway. We also encourage the use of national surveys (e.g., the Panel Survey of Income Dynamics, the National Longitudinal Survey of Youth-79, National Longitudinal Survey of Youth-97, the Survey of Income and Participation Dynamics, the Survey of Program Dynamics, the National Longitudinal Study of Adolescent Health, and the Youth Risk Behavior Surveillance System) and comprehensive state level administrative and survey databases which allow for detailed analytic work on a variety of outcomes of welfare reform and the broader policy and economic environment. For example, we are interested in determining relationships between welfare policies and successful versus unsuccessful transitions to work. (Note: Despite the positive aspects of using national surveys, researchers must acknowledge and address the limitation that such data may represent periods that precede passage of welfare reform legislation or implementation of its major provisions.) We also welcome multidisciplinary approaches to research questions.

With this announcement, we are seeking abstracts that propose studies of welfare reform outcomes, including:

1. Researcher-nominated projects: Topics that are identified by the researcher as most important for our understanding of welfare reform outcomes, but that do not fall into one of the topic categories listed below.

2. Economic Support for Poor Families: We are interested in (1) understanding the characteristics and needs of working poor families and the low-wage labor market, including supports for families transitioning from welfare such as child care, food stamps, Medicaid, and EITC, and how these affect their transition from welfare to self-sufficiency; (2) understanding how the emphasis on work for welfare families is affecting adults and their children, and how they are faring; (3) identifying state-specific policies for welfare-to-work, such as state flexibility in the use of TANF funds for non-traditional service providers, and understanding how this is related to successful outcomes for families; (4) more fully understanding the economic status of low-income families (e.g., credit and debt, recent trends in poverty and employment, trends in income mobility); and; (5) understanding the interaction between welfare reform and housing; in particular, the effect of housing subsidies on the outcomes of welfare reform policies. (Note that the Department of Housing and Urban Development has helped researchers identify the recipients of housing subsidies in the past).

3. Children and Youth: We are interested in adolescents affected by welfare reform, teen parents on welfare and the children of these teen parents, youth who reside in low-income families transitioning from welfare, or sub-populations of youth affected by TANF policies. We would like to improve our understanding of the impact of welfare reform policies and of state TANF/Maintenance of Effort (MOE) funding on (1) policies and outcomes for low-income pregnant women and families with infants and toddlers; (2) child care and early childhood education for low-income populations, including child care for children with disabilities; (3) youth development programs for high-risk youth; (4) the prevention of teen risk behaviors; (5) the child protection and child welfare service systems and their caseloads (for example, is there an increasing overlap between child protective caseloads and TANF participants, divertees, and leavers, which may influence welfare outcomes?).

4. Family Formation: We are interested in projects that will increase our knowledge of the effect of TANF policies on family structure and functioning, including family composition, poverty, health insurance status, how resources are shared in cohabiting households before or after leaving welfare, and fertility issues, such as teen pregnancy and out-of-wedlock births. We are also interested in understanding the impact of welfare reform on marriage and on the living arrangements of children, and in examining how parents are fulfilling their economic and emotional responsibilities to their children. Issues of fatherhood, fragile families and cohabiting households, medical child support and other health care coverage for child support-eligible children, and how children are parented are also included in this topical area. There may also be issues related to how families with immigrant parents and citizen children are faring.

5. Special Populations: We are interested in (1) examining the welfare-eligible populations with serious barriers to succeeding in employment, including substance abuse, mental health problems, domestic violence, low educational skills, and those with multiple problems; (2) examining services for adults and children, including substance abuse and mental health treatment, domestic violence services, and programs for incarcerated adults and their families; (3) identifying supportive services and work strategies, as well as barriers of location, culture, language, and eligibility issues for specific low-income groups, such as immigrants and Native Americans; (4) understanding how the use of outcome-based performance systems, including incentives and penalties, affect these populations; (5) examining whether welfare caseloads have become more disadvantaged over time; and (6) understanding how newly ineligible populations, such as recent legal immigrants and their children and family members, have been affected.

6. Cross-Cutting Topics. We are interested in cross-generational issues affecting the low-income population, such as kinship networks, cohabitation, housing, intergenerational transmission of poverty, and the impact of welfare reform on teen parents and their children (e.g., living arrangements, prenatal and other medical care), child care, child outcomes, and the child-only caseload. We are interested in understanding the impact of local service delivery issues, such as privatization of services, integrated service delivery, performance-based contracting, and faith- and community-based service delivery. We are also interested in issues of place (e.g., rural, inner-city).

Part III. Abstract Application Guidelines and Evaluation Criteria

As noted previously, ASPE is engaging in a two-part process. Applicants must first submit an abstract as described in the application section below. Please read this section carefully. Abstracts must comply with the application guidelines. Abstracts that do not comply with the application guidelines will not be considered.

Abstracts must be received in the following format: 12 point font size; Single spaced; 1 inch top, bottom, left, and right margins.

The deadline for receipt of abstracts is April 6, 2001. An abstract will be considered as having met the deadline if it is either received at, or hand-delivered to, the mailing address on or before April 6, 2001, or postmarked before midnight three days prior to April 6, 2001 and received in time to be considered during the competitive review process (within two weeks of the deadline).

Hand-delivered applications will be accepted Monday through Friday, excluding Federal holidays, during the working hours of 9 a.m. to 4:30 p.m. in the lobby of the Hubert H. Humphrey building, located at 200 Independence Avenue, SW in Washington, DC. When hand-delivering an application, call (202) 690-8794 from the lobby for pick up. A staff person will be available to receive applications.

An original and two copies are required, but applicants are encouraged to send an additional 4 copies to ease processing, although applicants will not be penalized if these extra copies are not included. The original and copies of the abstract must be mailed to: Adrienne Little, Grants Officer, Office of the Assistant Secretary for Planning and Evaluation, Department of Health and Human Services, 200 Independence Avenue, SW, Room 405F, Hubert H. Humphrey Building, Washington, DC 20201, Telephone: (202) 690-8794.

Abstracts must include the material indicated below and in the order indicated. The information provided in items 1 through 4 must not exceed 6 pages. The title page MUST be the first page in any submission. Do not include a transmittal memo.

1. Title page. This page should include a reference to this program announcement: Policy Research and Studies on Welfare Reform Outcomes; proposed project title; name of researcher(s); organizational affiliation; and the address, telephone number, and e-mail address of the lead investigator. (This will be the mailing address and the email address used by ASPE to request full proposals from selected applicants.) The title page must include an indication of the research question(s) being addressed. A description of the proposed data set to be used must also be included. The title page must include the total number of months needed for completion of the project and the project's proposed start and end date. This should be the ONLY information on page one.

2. Statement of research question. The statement should briefly discuss the relevance of the proposed work to the purposes of this announcement. The statement will be reviewed for policy relevance and the importance of the research question. Please indicate clearly which research question(s) you are addressing.

3. Statement of proposed methods. This section should describe the conceptual model, the data source and the analytic methods. This description should explicitly relate data sources and analytic methods to the research issues to be addressed. This section must also contain information regarding the researcher's ability to obtain the data and information on when data will be available, if they are not already. Note that in the final proposal the researcher will have to provide assurances that the data are available. If the use of pre-TANF data is proposed, the limitation that such data may represent periods that precede passage of welfare reform legislation or implementation of its major provisions must be addressed.

4. Experience. The principal investigator's relevant research experience must be described. Other key staff must be identified with a brief description of their relevant experience and an indication of the tasks or activities for which they will be primarily responsible.

5. Estimated budget. This section must include an estimate of staff time and other direct costs. Information about other funding sources and the contribution that the ASPE funds will make must be discussed. Only a total project budget need be submitted at this time. Funding from other sources (non-federal) should also be identified and briefly described.

Part IV. The Review Process

An independent review panel will review and score all abstracts that are submitted by the deadline date and which meet the screening criteria (all information and in formats required by this announcement). The panel will review the abstracts using the evaluation criteria listed below to score each abstract. The panel review results will be the primary elements, along with the goal of funding research on a variety of topics, that will be used by the Assistant Secretary for Planning and Evaluation in making decisions regarding full application submission. The Department also reserves the option to discuss abstracts with other Federal or State staff, specialists, experts, and the general public. Comments from these sources, along with those of the reviewers, will be kept from inappropriate disclosure and may be considered in determining which applicants will be requested to submit a competitive application for review.

1. Research Question(s): The research must address important unanswered questions of local or national policy significance. The proposed research must contribute significantly to understanding the outcomes of welfare reform. ( 8 points)

2. Methodology/Merits of the Research Design: The research design must identify the study population, indicate data sources and demonstrate the availability and reliability of proposed data sources and the appropriateness and reliability of data collection instruments or observational techniques, as well as the validity of analytic methods proposed for addressing the research questions and hypotheses. The conceptual model and the analysis plan must be clearly explained. It is important to explain the time frame for the proposed work and that explanation must be clear and reasonable. If the use of pre-TANF data is proposed, the limitation that such data may represent periods that precede passage of welfare reform legislation or implementation of its major provisions must be addressed. (4 points)

3. Experience. The abstract must provide information on the principal investigator's relevant research experience and demonstrate capability to use the proposed data and methods. The relevant experience and proposed roles of other key staff must be presented. (6 points)

4. Budget. Applicants must provide an estimate of the total proposed budget, including information about other funding sources. The contribution of ASPE funding must be presented. The budget must be reasonable for the proposed scope of work. (2 points)

Estimate of Schedule

ASPE anticipates that abstracts will be reviewed and selected applicants notified to submit full proposals approximately 30 days following the deadline for submission of abstracts. We expect that full proposals will be required to be submitted within 45 days of the date of the notification letter.

The Catalogue of Federal Domestic Assistance Numbers is 93.239.
Dated: March 1, 2001.
William F. Raub,
Acting Assistant Secretary for Planning and Evaluation.

[FR Doc. 01-5516 Filed 3-6-01; 8:45 am]

BILLING CODE 4151-04-P